DEPARTMENT OF THE TREASURY

Office of Foreign Assets Control

Designation of Seven Individuals and One Entity Pursuant to Executive Order 13581, “Blocking Property of Transnational Criminal Organizations”

AGENCY: Office of Foreign Assets Control, Treasury.

ACTION: Notice.

SUMMARY: The Treasury Department's Office of Foreign Assets Control (“OFAC”) is publishing the names of one entity and seven individuals whose property and interests in property are blocked pursuant to Executive Order 13581 of July 24, 2011, “Blocking Property of Transnational Criminal Organizations.”

DATES: The designations by the Director of OFAC, pursuant to Executive Order 13581, of the one entity and eight individuals identified in this notice were effective on January 23, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011. In the Order, the President declared a national emergency to deal with the threat that significant transnational criminal organizations pose to the national security, foreign policy, and economy of the United States.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

On January 23, 2013, the Director of OFAC, in consultation with the Attorney General and the Secretary of State, designated, pursuant to one or more of the criteria set forth in subparagraphs (a)(ii)(A) through (a)(ii)(C) of Section 1 of the Order, one entity and eight individuals as persons whose property and interests in property are blocked pursuant to the Order.

The listings for these persons on OFAC's List of Specially Designated Nationals and Blocked Persons appear as follows:

Individuals:

1. GOLDBERG, Marina Samuilovna (a.k.a. KALASHOV, Marina; a.k.a. KALASHOVA, Marina), Burj Khalifa, Dubai, United Arab Emirates; DOB 15 Sep 1979; Passport 514763020 (Russia) (individual) [TCO].

2. KIYOTA, Jiro (a.k.a. SIN, Byon-Gyu); DOB 1940; POB Japan (individual) [TCO].

3. UCHIBORI, Kazuo (a.k.a. UCHIBORI, Kazuya); DOB 1952; POB Kawasaki, Kanagawa Prefecture, Japan (individual) [TCO].

4. ZAGARIA, Antonio; DOB 29 Jun 1962; POB San Cipriano D'Aversa, Italy (individual) [TCO].

5. ZAGARIA, Carmine; DOB 27 May 1968; POB San Cipriano D'Aversa, Italy (individual) [TCO].

6. ZAGARIA, Nicola; DOB 10 Oct 1927; POB San Cipriano D'Aversa, Italy (individual) [TCO].

7. ZAGARIA, Pasquale; DOB 05 Jan 1960; POB San Cipriano D'Aversa, Italy (individual) [TCO].

Entity:

1. INAGAWA-KAI, 7-8-4 Roppongi, Minato-ku, Tokyo, Japan [TCO].

Dated: January 23, 2013.
Adam J. Szubin,
Director, Office of Foreign Assets Control.

[FR Doc. 2013-02163 Filed 1-31-13; 8:45 am]

BILLING CODE P